DEPARTMENT OF COMMERCE

National Oceanic and Atmospheric Administration

RIN 0648-XT56

Marine Mammals; File No. 14486

AGENCY: National Marine Fisheries Service (NMFS), National Oceanic and Atmospheric Administration (NOAA), Commerce.

ACTION: Notice; receipt of application.

SUMMARY: Notice is hereby given that the Alaska SeaLife Center (ASLC), 301 Railway Avenue, PO Box 1329, Seward, Alaska 99664-1329 (Dr. Ian Dutton, Responsible Party), has applied in due form for a permit to receive, import, and export marine mammal specimens for scientific research purposes.

DATES: Written, telefaxed, or e-mail comments must be received on or before February 8, 2010.

ADDRESSES: The application and related documents are available for review by selecting “Records Open for Public Comment” from the Features box on the Applications and Permits for Protected Species (APPS) home page, https://apps.nmfs.noaa.gov, and then selecting File No. 14486 from the list of available applications.

These documents are also available upon written request or by appointment in the following offices:

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments on this application should be submitted to the Chief, Permits, Conservation and Education Division, at the address listed above. Comments may also be submitted by facsimile to (301)713-0376, or by email to NMFS.Pr1Comments@noaa.gov. Please include the File No. 14486 in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The primary objective of this application is to support multiple ongoing research programs at the ASLC, including studies of population ecology, diet and nutrition, reproductive physiology, toxicology and health of marine mammals. The ASLC requests the annual collection, receipt, import and export of unlimited samples from 4000 individual cetaceans and 5,000 individual pinnipeds under NMFS jurisdiction for continued research on these species. Samples would be collected under existing permits in the countries of origin, would be the product of a legal subsistence hunt, incidental by-catch, routine husbandry/medical examinations of public display animals in the U.S., or opportunistic carcass collection, or would be samples taken under other permitted research activities. No takes of live animals, direct or indirect, are requested in this application. ASLC requests the permit be issued for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 4, 2010.
P. Michael Payne,
Chief, Permits, Conservation and Education Division, Office of Protected Resources, National Marine Fisheries Service.

[FR Doc. 2010-139 Filed 1-7-10; 8:45 am]

BILLING CODE 3510-22-S